DEPARTMENT OF COMMERCE

Foreign-Trade Zones Board

[B-67-2018]

Foreign-Trade Zone (FTZ) 158—Jackson, Mississippi; Authorization of Production Activity; Calsonic Kansei North America (Automotive Parts), Canton, Mississippi

On October 25, 2018, Calsonic Kansei North America submitted a notification of proposed production activity to the FTZ Board for its facility within Site 21 of FTZ 158, in Canton, Mississippi.

The notification was processed in accordance with the regulations of the FTZ Board (15 CFR part 400), including notice in the Federal Register inviting public comment (83 FR 55142-55143, November 2, 2018). On April 3, 2019, the applicant was notified of the FTZ Board's decision that no further review of the activity is warranted at this time. The production activity described in the notification was authorized, subject to the FTZ Act and the FTZ Board's regulations, including Section 400.14.

Dated: April 3, 2019.
Andrew McGilvray,
Executive Secretary.

[FR Doc. 2019-06858 Filed 4-5-19; 8:45 am]

BILLING CODE 3510-DS-P